DEPARTMENT OF COMMERCE

National Oceanic and Atmospheric Administration (NOAA) Ocean Exploration Advisory Board (OEAB); Public Meeting

AGENCY: Office of Ocean Exploration and Research (OER) National Oceanic and Atmospheric Administration (NOAA) Department of Commerce (DOC).

ACTION: Notice of public meeting.

SUMMARY: This notice sets forth the schedule and proposed agenda of a forthcoming meeting of the Ocean Exploration Advisory Board (OEAB). OEAB members will discuss and provide advice on Federal ocean exploration programs, with a particular emphasis on National Oceanic and Atmospheric Administration (NOAA) Office of Ocean Exploration and Research (OER) activities, NOAA's response to the OEAB letter to NOAA Administrator Kathryn Sullivan on October 2, 2015, U.S. ocean exploration-related activities in the Arctic, and other matters as described in the agenda found on the OEAB Web site at http://oeab.noaa.gov.

Time and Dates: The announced meeting is scheduled for Wednesday, January 20, 2016 from 8:30 a.m.—5:45 p.m. EST, and Thursday, January 21, 2016 from 8:30 a.m.—1:30 p.m. EST.

ADDRESSES: The meeting will be held at SRI International, 450 8th Avenue SE., St. Petersburg, FL 33071

Status: The meeting will be open to public participation with a 15-minute public comment period on Wednesday, January 20, 2016 from 1:30 p.m. to 1:45 p.m. EST (please check the agenda on the Web site to confirm the time).

The OEAB expects that public statements at its meetings will not be repetitive of previously submitted verbal or written statements. In general, each individual or group making a verbal presentation will be limited to three minutes. The Designated Federal Officer must receive written comments by January 6, 2016 to provide sufficient time for OEAB review. Written comments received after January 6, 2016 will be distributed to the OEAB but may not be reviewed prior to the meeting date. Seats will be available on a first-come, first-served basis.

Special Accomodations: These meetings are physically accessible to people with disabilities. Requests for sign language interpretation or other auxiliary aids should be directed to David McKinnie, Designated Federal Officer (see below) by January 6, 2016.

FOR FURTHER INFORMATION CONTACT: Mr. David McKinnie, Designated Federal Officer, Ocean Exploration Advisory Board, National Oceanic and Atmospheric Administration, 7600 Sand Point Way NE., Seattle, WA 98115, (206) 526-6950.

SUPPLEMENTARY INFORMATION: NOAA established the OEAB under the Federal Advisory Committee Act (FACA) and legislation that gives the agency statutory authority to operate an ocean exploration program and to coordinate a national program of ocean exploration. The OEAB advises NOAA leadership on strategic planning, exploration priorities, competitive ocean exploration grant programs and other matters as the NOAA Administrator requests.

OEAB members represent government agencies, the private sector, academic institutions, and not-for-profit institutions involved in all facets of ocean exploration—from advanced technology to citizen exploration.

In addition to advising NOAA leadership, NOAA expects the OEAB to help to define and develop a national program of ocean exploration—a network of stakeholders and partnerships advancing national priorities for ocean exploration.

Dated: December 17, 2015.
Jason Donaldson,
Chief Financial Officer, Office of Oceanic and Atmospheric Research, National Oceanic and Atmospheric Administration.

[FR Doc. 2015-32280 Filed 12-22-15; 8:45 am]

BILLING CODE 3510-KA-P